DEPARTMENT OF LABOR

Employment and Training Administration

[TA-W-40,027]

Hayward Pool Products, Inc. a/k/a Hayward Industries, Inc., Kings Mountain, NC; Notice of Termination of Investigation

Pursuant to section 221 of the Trade Act of 1974, an investigation was initiated on September 17, 2001, in response to a worker petition which was filed by the company on behalf of its workers at Hayward Pool Products, Inc., a/k/a Hayward Industries, Inc., Kings Mountain, North Carolina. The workers produce products related to the swimming pool industry, i.e. filters, skimmers, spare parts, etc.

The petitioner has requested that the petition be withdrawn. Consequently further investigation in this case would serve no purpose, and the investigation has been terminated.

Signed at Washington, DC, this 15th day of October, 2001.
Linda G. Poole,
Certifying Officer, Division of Trade Adjustment Assistance.

[FR Doc. 01-27237 Filed 10-29-01; 8:45 am]

BILLING CODE 4510-30-M